DEPARTMENT OF DEFENSE

Department of the Army

[Docket ID: USA-2024-HQ-0014]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by September 29, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Exchange Employment Applications; Exchange Forms 1200-718 and 1200-026; OMB Control Number 0702-0133.

Type of Request: Revision.

Exchange Web-Based Applications

Number of Respondents: 147,400.

Responses per Respondent: 1.

Annual Responses: 147,400.

Average Burden per Response: 30 minutes.

Annual Burden Hours: 73,700.

Driver's Supplemental Information (Form 1200-026)

Number of Respondents: 2,060.

Responses per Respondent: 1.

Annual Responses: 2,060.

Average Burden per Response: 60 minutes.

Annual Burden Hours: 2,060.

Local National Employment Applications (Germany, Turkey, Italy, United Kingdom)

Number of Respondents: 849.

Responses per Respondent: 1.

Annual Responses: 849.

Average Burden per Response: 45 minutes.

Annual Burden Hours: 637.

Total

Number of Respondents: 150,309.

Annual Responses: 150,309.

Annual Burden Hours: 76,397.

Needs and Uses: This information collection covers the documentation related to the employment of individuals to the Exchange within the Continental United States of America and Exchange facilities outside the Continental United States of America. The collection allows the Exchange to capture the essential information required to evaluate applicants for Exchange civilian opportunities in order to hire the best, qualified individuals empowering the Exchange's mission of enhancing the quality of life for members of the U.S. Military.

Affected Public: Individuals or households.

Frequency: On occasion.

Respondent's Obligation: Voluntary.

DoD Clearance Officer: Mr. Reginald Lucas.

Dated: August 27, 2025.
Aaron T. Siegel,
Alternate OSD Federal Register Liaison Officer, Department of Defense.

[FR Doc. 2025-16673 Filed 8-28-25; 8:45 am]

BILLING CODE 6001-FR-P